NUCLEAR REGULATORY COMMISSION

Workshop Concerning The Revision of the Oversight Program for Nuclear Fuel Cycle Facilities

AGENCY: Nuclear Regulatory Commission (NRC).

ACTION: Notice of Public Workshop.

SUMMARY: NRC will hold a public workshop at the NRC Headquarters location at 11555 Rockville Pike, in Rockville, MD to provide the public, those regulated by the NRC, and other stakeholders, with information about and an opportunity to provide views on how NRC plans to revise its oversight program for nuclear fuel cycle facilities. This workshop follows the public workshop held on May 24-25, 2000. Presentations and other documents provided at each workshop are placed on the NRC INTERNET web page (http://www.nrc.gov).

Similar to the revision of the oversight program for commercial nuclear power reactor plants, NRC initiated an effort to improve its oversight program for nuclear fuel cycle facilities. This is described in SECY-99-188 titled, “Evaluation and Proposed Revision of the Nuclear Fuel Cycle Facility Safety Inspection Program.” SECY-99-188 is available in the Public Document Room and on the NRC Web Page at http://www.nrc.gov/NRC/COMMISSION/SECYS/index.html.

Purpose of Workshop: To obtain stakeholder views for improving the NRC oversight program for ensuring regulatees (licensee and certificate holders) maintain protection of worker and public health and safety, protection of the environment, and safeguards for special nuclear material and classified matter in the interest of national security. The oversight program applies to commercial nuclear fuel cycle facilities regulated under 10 CFR Parts 40, 70, and 76. The facilities currently include gaseous diffusion plants, highly enriched uranium fuel fabrication facilities, low-enriched uranium fuel fabrication facilities, and a uranium hexafluoride (UF6) production facility. These facilities possess large quantities of materials that are potentially hazardous (i.e., radioactive, toxic, and/or flammable) to the workers, public, and environment. Also, some of the facilities possess information and material important to national security. In revising the oversight program, the goal is to have an oversight program that: (1) Provides earlier and more objective indications of acceptable and changing safety and national security related performance, (2) increases stakeholder confidence in the NRC, and (3) increases regulatory effectiveness, efficiency, and realism. In this regard, the NRC desires the revised oversight program to be more risk-informed and performance-based and more focused on significant risks and poorer performers.

The public workshop will focus on:

• Status of the evolving revision of the oversight program.

• Safety and national security related problem identification, resolution, and correction.

• Revision of the NRC inspection program.

• Revision of the NRC overall performance assessment process.

• Communication plans for informing stakeholders about the oversight program revision.

• Next actions/schedule to complete revision of the oversight program

DATES: Members of the public, industry, and other stakeholders are invited to attend and participate in the workshop, which is scheduled for 8:30 a.m. to 4:30 p.m. on Wednesday, September 13, 2000. The workshop will be held in the NRC Professional Development Center in room T3B43.

ADDRESSES: NRC Headquarters, 11555 Rockville Pike, in Rockville, MD. Visitor parking around NRC Headquarters is limited; however, the public meeting site may be reached by taking the Washington DC area metro to White Flint. NRC Headquarters is located across the street from the White Flint metro station.

FOR FURTHER INFORMATION, CONTACT: Walter Schwink, Office of Nuclear Material Safety and Safeguards, U.S. Nuclear Regulatory Commission, Washington, DC 20555, telephone (301) 415-7190, e-mail wss@nrc.gov.

Dated at Rockville, Maryland this 29th day of August 2000.
For the Nuclear Regulatory Commission.
Theodore S. Sherr,
Chief, Safety and Safeguards Support Branch, Division of Fuel Cycle Safety and Safeguards, Office of Nuclear Material Safety and Safeguards.

[FR Doc. 00-22649 Filed 9-1-00; 8:45 am]

BILLING CODE 7590-01-P